DEPARTMENT OF HEALTH AND HUMAN SERVICES

Centers for Medicare and Medicaid Services

[Document Identifier: CMS-10067]

Agency Information Collection Activities: Submission for OMB Review; Comment Request; Retraction

ACTION: Notice; retraction.

SUMMARY: In the Federal Register issue of Thursday, September 5, 2002, make the following retraction:

Retraction: In the Federal Register issue of Thursday, September 5, 2002, Volume 67: No. 172, on page 56845-56846, we wish to retract the emergency notice announcing the Public Information Collection Requirements Submitted to the Office of Management and Budget (OMB) for the “Pharmacy Plus Template for Low Income Seniors under Medicaid”, form number CMS-10067.

Dated: September 10, 2002.
John P. Burke,
Paperwork Reduction Act Team Leader, CMS Reports Clearance Officer, Office of Strategic Operations and Regulatory Affairs, Division of Regulations Development and Issuances.

[FR Doc. 02-23769 Filed 9-18-02; 8:45 am]

BILLING CODE 4120-03-P